DEPARTMENT OF ENERGY

Federal Energy Regulatory Commission

Combined Notice of Filings #2

Take notice that the Commission received the following electric corporate filings:

Docket Numbers: EC17-49-000.

Applicants: GridLiance West Transco LLC.

Description: Response to February 10, 2017 Deficiency Letter of GridLiance West Transco LLC.

Filed Date: 2/21/17.

Accession Number: 20170221-5185.

Comments Due: 5 p.m. ET 3/14/17.

Docket Numbers: EC17-71-000.

Applicants: Broadview Energy JN, LLC, Broadview Energy KW, LLC.

Description: Supplement to January 27, 2017 Application for Authorization for Disposition of Jurisdictional Facilities of Broadview Energy JN, LLC, et al.

Filed Date: 2/28/17.

Accession Number: 20170228-5367.

Comments Due: 5 p.m. ET 3/10/17.

Take notice that the Commission received the following electric rate filings:

Docket Numbers: ER11-2395-000.

Applicants: Westar Energy, Inc.

Description: Report Filing: Westar TFR Refund Report in Compliance with DAA Audit Report to be effective N/A.

Filed Date: 3/1/17.

Accession Number: 20170301-5149.

Comments Due: 5 p.m. ET 3/22/17.

Docket Numbers: ER17-1066-000.

Applicants: PJM Interconnection, L.L.C.

Description: § 205(d) Rate Filing: Amendment to Service Agreement No. 2267, Queue No. U2-059 re: Assignment to EPP to be effective 7/31/2009.

Filed Date: 3/1/17.

Accession Number: 20170301-5145.

Comments Due: 5 p.m. ET 3/22/17.

Docket Numbers: ER17-1067-000.

Applicants: Public Service Company of Colorado.

Description: § 205(d) Rate Filing: PSCo-TSGT-E&P-405-0.1.0-NOC to be effective 3/2/2017.

Filed Date: 3/1/17.

Accession Number: 20170301-5165.

Comments Due: 5 p.m. ET 3/22/17.

Docket Numbers: ER17-1068-000.

Applicants: PJM Interconnection, L.L.C.

Description: § 205(d) Rate Filing: Amendments to 10 Service Agreements re: MAIT Assignments to be effective 11/4/2003.

Filed Date: 3/1/17.

Accession Number: 20170301-5167.

Comments Due: 5 p.m. ET 3/22/17.

Docket Numbers: ER17-1069-000.

Applicants: Mid-Atlantic Interstate Transmission, LLC, PJM Interconnection, L.L.C.

Description: § 205(d) Rate Filing: MAIT and Penelec submit Operating and Interconnection Agreement SA No. 4578 to be effective 2/1/2017.

Filed Date: 3/1/17.

Accession Number: 20170301-5177.

Comments Due: 5 p.m. ET 3/22/17.

Docket Numbers: ER17-1070-000.

Applicants: Monument Valley Solar Lessee, LLC.

Description: Baseline eTariff Filing: Baseline new to be effective 3/30/2017.

Filed Date: 3/1/17.

Accession Number: 20170301-5182.

Comments Due: 5 p.m. ET 3/22/17.

Docket Numbers: ER17-1071-000.

Applicants: Duke Energy Progress, LLC.

Description: § 205(d) Rate Filing: DEP-Amended RS No. 199 Wholesale Depreciation Rates to be effective 11/26/2015.

Filed Date: 3/1/17.

Accession Number: 20170301-5187.

Comments Due: 5 p.m. ET 3/22/17.

Docket Numbers: ER17-1072-000.

Applicants: Mid-Atlantic Interstate Transmission, LLC, PJM Interconnection, L.L.C.

Description: § 205(d) Rate Filing: MAIT and Met-Ed submit Operating and Interconnection Agreement SA No. 4577 to be effective 2/1/2017.

Filed Date: 3/1/17.

Accession Number: 20170301-5207.

Comments Due: 5 p.m. ET 3/22/17.

Docket Numbers: ER17-1073-000.

Applicants: ISO New England Inc.

Description: Eleventh Forward Capacity Auction Results of ISO New England Inc.

Filed Date: 2/28/17.

Accession Number: 20170228-5371.

Comments Due: 5 p.m. ET 4/14/17.

Docket Numbers: ER17-1074-000.

Applicants: Luning Energy LLC.

Description: Compliance filing: Compliance 2017 to be effective 1/2/2017.

Filed Date: 3/1/17.

Accession Number: 20170301-5244.

Comments Due: 5 p.m. ET 3/22/17.

Docket Numbers: ER17-1075-000.

Applicants: Portland General Electric Company.

Description: § 205(d) Rate Filing: EIM OATT Filing to be effective 5/1/2017.

Filed Date: 3/1/17.

Accession Number: 20170301-5250.

Comments Due: 5 p.m. ET 3/22/17.

Docket Numbers: ER17-1076-000.

Applicants: Duke Energy Carolinas, LLC, Duke Energy Florida, LLC, Duke Energy Progress, LLC.

Description: § 205(d) Rate Filing: OATT Attachment C-1 and C-3 Amendment to be effective 5/1/2017.

Filed Date: 3/1/17.

Accession Number: 20170301-5262.

Comments Due: 5 p.m. ET 3/22/17.

Docket Numbers: ER17-1077-000.

Applicants: Wisconsin Public Service Corporation.

Description: § 205(d) Rate Filing: Revised Market Based Rate Tariff to be effective 2/25/2016.

Filed Date: 3/1/17.

Accession Number: 20170301-5267.

Comments Due: 5 p.m. ET 3/22/17.

Docket Numbers: ER17-1078-000.

Applicants: Wisconsin River Power Company.

Description: § 205(d) Rate Filing: Revised Market Based Rate Tariff to be effective 2/25/2016.

Filed Date: 3/1/17.

Accession Number: 20170301-5277.

Comments Due: 5 p.m. ET 3/22/17.

Docket Numbers: ER17-1079-000.

Applicants: Wisconsin Electric Power Company.

Description: § 205(d) Rate Filing: Wisconsin Electric Market Based Rate Tariff O819 Filing to be effective 2/25/2016.

Filed Date: 3/1/17.

Accession Number: 20170301-5280.

Comments Due: 5 p.m. ET 3/22/17.

Docket Numbers: ER17-1080-000.

Applicants: Combined Locks Energy Center, LLC.

Description: § 205(d) Rate Filing: Revised Market Based Rate Tariff to be effective 2/25/2016.

Filed Date: 3/1/17.

Accession Number: 20170301-5281.

Comments Due: 5 p.m. ET 3/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2017.
Nathaniel J. Davis, Sr.,
Deputy Secretary.

[FR Doc. 2017-04410 Filed 3-6-17; 8:45 am]

BILLING CODE 6717-01-P